COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities, and deletes products previously furnished by such agencies.

DATES: Comments must be received on or before: July 19, 2020.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s):

MR 16500—Glasses, Readers, 1.25 Diopter

MR 16501—Glasses, Readers, 1.50 Diopter

MR 16502—Glasses, Readers, 1.75 Diopter

MR 16503—Glasses, Readers, 2.00 Diopter

MR 16504—Glasses, Readers, 2.50 Diopter

MR 16505—Glasses, Readers, 2.75 Diopter

Mandatory Source of Supply: Winston-Salem Industries for the Blind, Inc., Winston-Salem, NC

Contracting Activity: Military Resale-Defense Commissary Agency

Services

Service Type: Grounds Maintenance

Mandatory for: FAA, Charlotte Air Traffic Control Tower, Charlotte, NC

Mandatory Source of Supply: The Charles Lea Center, Inc., Spartanburg, SC

Contracting Activity: FEDERAL AVIATION ADMINISTRATION, 697DCK REGIONAL ACQUISITIONS SVCS

Deletions

The following product is proposed for deletion from the Procurement List:

Product

NSN(s)—Product Name(s):

7930-01-555-2897—Degreaser, Bio-renewable, Industrial Strength, 5 gl.

Mandatory Source of Supply: VisionCorps, Lancaster, PA

Contracting Activity: GSA/FSS GREATER SOUTHWEST ACQUISITI, FORT WORTH, TX

Michael R. Jurkowski,
Deputy Director, Business & PL Operations.

[FR Doc. 2020-13229 Filed 6-18-20; 8:45 am]

BILLING CODE 6353-01-P